FEDERAL MARITIME COMMISSION

[Petition No. P3-15]

Petition of COSCO Container Lines Europe GMBH for an Exemption From 46 U.S.C. 40703; Notice of Filing and Request for Comments

Notice is hereby given that COSCO Container Lines Europe GmbH (“Petitioner”), has petitioned the Commission pursuant to 46 U.S.C. 40103 and 46 CFR 502.76 of the Commission's Rules of Practice and Procedure, for an exemption from 46 U.S.C. 40703, to permit Petitioner to lawfully reduce its tariff rates, charges, classifications, rules or regulations effective upon publication.

Petitioner is an ocean common carrier that intends to begin operating in the Europe-U.S. trade “on or about June 1, 2015.” Petitioner notes the exemption would allow it “to compete with other carriers in providing tariff rate reductions in a timely and competitive manner.” Petitioner is 100% owned by COSCO Container Lines Co., Ltd, a controlled carrier. Petitioner states that it is a controlled carrier as defined by the Shipping Act and subject to the requirements of 46 U.S.C. 40701-40706.

In order for the Commission to make a thorough evaluation of the exemption requested in the Petition, interested parties are requested to submit views or arguments in reply to the Petition no later than May 29, 2015. Replies shall be sent to the Secretary, Federal Maritime Commission, 800 North Capitol Street NW., Washington, DC 20573-0001, or emailed to Secretary@fmc.gov, and be served on Petitioner, Howard S. Finkel, Executive Vice President, COSCO Container Lines Americas, Inc., 100 Lighting Way, Secaucus, NJ 07094.

Non-confidential filings may be submitted in hard copy to the Secretary at the above address or by email as a PDF attachment to Secretary@fmc.gov. Confidential filings should not be filed by email. A confidential filing must be filed with the Secretary in hard copy only, and be accompanied by a transmittal letter that identifies the filing as “Confidential-Restricted” and describes the nature and extent of the confidential treatment requested. The Commission will provide confidential treatment to the extent allowed by law for confidential submissions, or parts of submissions, for which confidentiality has been requested. When a confidential filing is submitted, there must also be submitted a public version of the fling. Such public filing version shall exclude confidential materials, and shall indicate on the cover page and on each affected page “Confidential materials excluded.” Public versions of confidential filings may be submitted by email.

The Petition will be posted on the Commission's Web site at http://www.fmc.gov/reading/Petitions.asp. Replies filed in response to the Petition will also be posted on the Commission's Web site at this location.

Karen V. Gregory,
Secretary.

[FR Doc. 2015-11631 Filed 5-13-15; 8:45 am]

BILLING CODE 6731-AA-P